DEPARTMENT OF AGRICULTURE

Submission for OMB Review; Comment Request

October 2, 2000.

The Department of Agriculture has submitted the following information collection requirement(s) to OMB for review and clearance under the Paperwork Reduction Act of 1995, Public Law 104-13. Comments regarding: (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, D.C. 20503 and to Departmental Clearance Office, USDA, OCIO, Mail Stop 7602, Washington, D.C. 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

• Food and Nutrition Service

Title: Form FNS-388, State Issuance and Participation Estimates.

OMB Control Number: 0584-0081.

Summary of Collection: Section 18(b) of the Food Stamp Act of 1977, as amended, requires that “In any fiscal year, the Secretary shall limit the value of those allotments issued (under the Food Stamp Program) to an amount not in excess of the appropriation for such fiscal year.” Timely State monthly issuance estimates are necessary for the Food and Nutrition Service (FNS) to ensure that it remains within the appropriation and will have a direct effect upon the manner in which allotments would be reduced when necessary. FNS uses the FNS-388 report to obtain monthly Statewide estimated or actual issuance and participation data for the current and previous months, and the actual participation data for the second preceding month.

Need and Use of the Information: The FNS-388 report provides the necessary data for an early warning system to enable the Department to fulfill the requirements of Section 18(b) of the Food Stamp Act. In addition, the data is used to: (1) Validate the Annual Food Stamp Household Characteristic Survey; (2) to compile a Statistical Summary Report which is used for special studies and in response to Congressional and other inquiries; and (3) to compare against the coupon issuance points' FNS-250 (which reports issuances from inventory) and reconciliation points' FNS-46 issuance data (which reports issuances for coupons, electronic benefit transfer, and cash-out) for indications of accountability problems.

Description of Respondents: State, Local, or Tribal Government.

Number of Respondents: 53.

Frequency of Responses: Reporting: Monthly; Semi-annually.

Total Burden Hours: 4,542.

• Rural Housing Service

Title: Notice of Funds Availability (NOFA) Inviting Applications for the Rural Community Development Initiative (RCDI).

OMB Control Number: 0575-0180.

Summary of Collection: The Rural Community Development Initiative (RCDI) was created by Congress in Fiscal Year 2000 with an appropriation of $6 million under the Rural Community Advancement Program. The Rural Housing Service (RHS) will administer the grant program. The grants will be made to qualified intermediary organizations that will provide technical assistance to recipients to increase their capacity and ability in the areas of housing, community facilities, and community and economic development in rural areas. Eligible recipients are private, nonprofit community/based housing and community development organizations and low-income rural communities.

Need and Use of the Information: RHS will collect information to determine applicant/grantee eligibility, project feasibility, and to ensure that grantees operate on a sound basis and use grant funds for authorized purposes. Failure to collect this information could result in improper use of Federal funds.

Description of Respondents: Not-for profit institutions; State, Local or Tribal Government.

Number of Respondents: 100.

Frequency of Responses: Recordkeeping; Reporting: Quarterly; Annually

Total Burden Hours: 1,702.

• Agricultural Marketing Service

Title: Tart Cherries Grown in the states of MI, NY, PA, OR, UT, WA, and WI.

OMB Control Number : 0581-0177.

Summary of Collection: Marketing Order No. 930 (7 CFR part 930) regulates the handling of tart cherries grown in the states of Michigan, New York, Pennsylvania, Oregon, Utah, Washington, and Wisconsin. The Agricultural Marketing Agreement Act of 1937 was designed to permit regulation of certain agricultural commodities for the purpose of providing orderly marketing conditions in inter and intrastate commerce and improving returns to growers. The primary objective of the Order is to stabilize the supply of tart cherries. Only tart cherries that will be canned or frozen will be regulated. The Order is administered by a 18 member Board comprised of producers, handlers and one public member with each member serving for a three-year term office.

Need and Use of the Information: Various forms are used to collect information necessary to effectively carry out the requirements of the Order. The information gathered is used to ensure compliance, verify eligibility, and vote on amendments, monitor and record grower's information. Authorized Board employees and the industry are the primary users of the information.

Description of Respondents: Business or other for profit; arms.

Number of Respondents: 943.

Frequency of Responses: Reporting: On occasion.

Total Burden Hours: 852.

• Food and Nutrition Service

Title: Worksheet for Food Stamp Program Quality Control Reviews, FNS-380.

OMB Control Number: 0584-0074.

Summary of Collection: State agencies are required to perform Quality Control reviews for the Food Stamp Program in conjunction with Section 16 of the Food Stamp Act of 1977. The Food Stamp Worksheet provides a systematic means of aiding the State agency's quality control reviewer in analyzing household case records; planning and carrying out the field investigations; and gathering, comparing, analyzing and evaluating the review data. The Food and Nutrition Service (FNS) has traditionally used the FNS-380 as a hardcopy worksheet; however, recent efforts to automate the form have been completed. FNS would like to implement an automated version of the form at the beginning of FY 2001.

Need and Use of the Information: FNS will use the hardcopy and automated versions of the FNS-380 to document and evaluate each step of the field investigation process to determine eligibility and payment amounts under FNS approved State practices.

Description of Respondents: State, Local, or Tribal Government; Federal Government.

Number of Respondents: 53.

Frequency of Responses: Recordkeeping; Reporting: On occasion; Annually.

Total Burden Hours: 491,967.

• Rural Business—Cooperative Service

Title: Research on Rural Cooperative Opportunities and Problems.

OMB Control Number: 0570-0028.

Summary of Collection: The Department of Agriculture Reorganization Act of 1994, Public Law 103-350, established the Rural Business-Cooperative Service (RBS). RBS' mission is to improve the quality of life in rural America by financing community facilities and businesses, providing technical assistance and creating effective strategies for rural development. The primary objective of this funding is to encourage research through cooperative agreements on critical issues vital to the development and sustainability of cooperatives as a means of improving the quality of life in America's rural communities. RBS will collect information through research proposals prepared by applicants, who may be public or private colleges or universities, research foundations maintained, by a college or university, or private nonprofit organizations.

Need and Use of the Information: RBS will collect information from applicants to determine: (1) Eligibility; (2) the specific purpose for which the funds will be utilized; (3) time frames or dates by which activities surrounding the use of funds will be accomplished; (4) feasibility of the project; (5) applicants' experience in managing similar activities; and (6) the effectiveness and innovation used to address critical issues vital to the development and sustainability of cooperatives as a means of improving the quality of life in America's rural communities. Without the collection of information, there would be no basis on which to award funds or monitor project progress.

Description of Respondents: Not-for-profit institutions.

Number of Respondents: 50.

Frequency of Responses: Recordkeeping; Reporting: On occasion, Quarterly.

Total Burden Hours: 1,140.

• Economic Research Service

Title: Study of Program Access and Declining Food Stamp Participation.

OMB Control Number: 0536-NEW.

Summary of Collection: The Economic Research Service (ERS) of the Department of Agriculture (USDA) has the responsibility to provide social and economic intelligence on consumer, food marketing, and rural issues, including: domestic food assistance programs; low-income assistance programs; food security status of the poor; food consumption determinants and trends; consumer demand for food quality, safety, and nutrition; food market competition and coordination; and food safety regulations. The Food Stamp Program (FSP) is the cornerstone of the Nation's nutrition safety net for low-income Americans. The program's intent is to eliminate hunger and enable eligible low-income persons to obtain a more nutritionally adequate diet by providing food stamp coupons (or other forms of payment) redeemable at many retail food stores. USDA is concerned about the declines in Food Stamp Program participation that have occurred since 1994, and whether or not the program is reaching all those in need. In an effort to better understand the factors affecting Food Stamp Program participants, the ERS will launch a study. The evaluation is being performed pursuant to Public Law 95-73, which authorizes USDA to undertake research in this area.

Need and Use of the Information: ERS will collect information to describe the policies and practices in local food stamp offices, particularly those instituted since welfare reform, that may affect accessibility to the FSP; to examine how local policies and practices affect households' decisions to apply for food stamps and their decisions to continue to receive food stamps; and to examine the reason eligible households do not participate in the FSP. If the information is not collected, FNS would be severely limited in its ability to make appropriate policy decisions regarding the FSP.

Description of Respondents: Individuals; State, Local, or Tribal Government.

Number of Respondents: 37,278.

Frequency of Responses: Reporting: Other (one time).

Total Burden Hours: 5,110.5.

• Rural Housing Service

Title: 7 CFR 3570-B, Community Facilities Grant Program.

OMB Control Number: 0575-0173.

Summary of Collection: The Consolidated Farm and Rural Development Act (7 U.S.C. 1926) authorizes the Rural Housing Service (RHS) to make grants to public agencies, nonprofit corporations, and Indian tribes to develop essential community facilities and services for public use in rural areas. These facilities include schools, libraries, childcare, hospitals, clinics, assisted-living facilities, fire and rescuer stations, police stations, community centers, public buildings, and transportation. The Department of Agriculture through its Community Programs strives to ensure that facilities are readily available to all rural communities.

Need and Use of the Information: Rural Development field offices will collect information from applicant/borrowers and consultants. This information is used to determine applicant/borrower eligibility, project feasibility, and to ensure borrowers operate on a sound basis and use loan and grant funds for authorized purposes. Failure to collect information could have an adverse impact on effectively carrying out the mission, administration, processing, and program requirements.

Description of Respondents: Not-for-profit institutions: State, Local, or Tribal Government.

Number of Respondents: 294.

Frequency of Responses: Reporting: On occasion.

Total Burden Hours: 1,078.

• Agricultural Marketing Service

Title: Vegetable and Specialty Crops.

OMB Control Number: 0581-0178.

Summary of Collection: The Agricultural Marketing Agreement Act of 1937 was designed to permit regulation of certain agricultural commodities for the purpose of providing orderly marketing conditions in inter and intrastate commerce and improving returns to growers. The Order and agreements are administered by committees/board comprised of producers/growers, handlers and in some cases, a member representing the public. The marketing order programs provide an opportunity for producers of fresh fruit, vegetables, and specialty crops, in specified production areas to work together to solve marketing problems that cannot be solved individually.

Need and Use of the Information: Various forms are used to collect information necessary to effectively carry out the requirements of the Act and the Order/Agreement. Information collected is used to formulate market policy, track current inventory and statistical data for market development programs, ensure compliance, and verify eligibility, monitor and record grower's information. The Committees/Boards periodically review the forms to avoid unnecessary duplication by industry and public sector agencies. If information were not collected, it would eliminate data needed to keep the industry and the Secretary abreast of changes at the State and local level.

Description of Respondents: Business or other for profit; Farms; Federal Government; Individuals or households; Not-for-profit institutions.

Number of Respondents: 17,463.

Frequency of Responses: Reporting: On occasion, Quarterly, Biennially, Weekly, Semi-annually, Monthly, Annually and Recordkeeping.

Total Burden Hours: 9,102.

• National Agricultural Statistics Service

Title: Nursery and Greenhouse Production Survey and Nursery and Floriculture Chemical Use Survey.

OMB Control Number: 0535-NEW.

Summary of Collection: In February 1997, the Secretary of Agriculture issued the report of the Civil Rights Action Team entitled “Civil Rights at the Department of Agriculture.” Civil Rights teams were formed to implement the report recommendations. One of the recommendations that was a direct outcome of the evaluation was the condition of farm workers. The team recognized the need for reliable pesticide use information about enterprises that involve farm workers and requested that the National Agricultural Statistics Service (NASS) obtain pesticide use information for commodities which require intensive farm labor. Congress appropriated funds for the collection of pesticide use data on nursery and flouriculture operations. NASS will incorporate biennial nursery production statistics into the NASS estimating program to measure the nursery industry's growing significance to the agriculture economy and also provide a link to the collection of chemical use data. The data will be collected under the authority of 7 U.S.C. 2204(a). NASS will collect information using surveys.

Need and Use of the Information: NASS will collect information to assess the environmental and economic impact of various programs, policies, and procedures on nursery and flouriculture operators and their workers. The basic chemical use and farm practices information will be used to enhance the national chemical use database maintained by NASS. The information will also aid in determining the needs of growers, such as appropriation of research funds to target pests and diseases.

Description of Respondents: Farms; Business or other for-profit.

Number of Respondents: 9,834.

Frequency of Responses: Reporting: Biennially.

Total Burden Hours: 5,098.

Nancy B. Sternberg,
Departmental Clearance Officer.

[FR Doc. 00-25727 Filed 10-5-00; 8:45 am]

BILLING CODE 3410-01-M